DEPARTMENT OF HOMELAND SECURITY

Federal Emergency Management Agency

44 CFR Part 67

[Docket ID FEMA-2015-0001]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: November 18, 2015.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Montgomery County, Pennsylvania (All Jurisdictions)
Docket No.: FEMA-B-1175
Blair Mill Run | At the Pennypack Creek confluence | +211 | Borough of Hatboro, Township of Horsham, Township of Upper Moreland.
| At the downstream side of County Line Road | +261
Blair Mill Run Tributary | At the upstream side of West Monument Avenue | +228 | Borough of Hatboro.
| At the downstream side of East County Line Road | +252
Huntingdon Valley Creek | Approximately 800 feet downstream of Red Lion Road | +120 | Borough of Bryn Athyn, Township of Lower Moreland.
| Approximately 0.9 mile upstream of Byberry Road | +267
Meadow Brook | At the Pennypack Creek confluence | +118 | Township of Abington, Township of Lower Moreland.
| Approximately 1,000 feet upstream of the most upstream State Highway 2017 crossing | +287
Pennypack Creek | Approximately 1,200 feet downstream of Moredon Road | +100 | Borough of Bryn Athyn, Borough of Hatboro, Township of Abington, Township of Horsham, Township of Lower Moreland, Township of Upper Dublin, Township of Upper Moreland.
| Approximately 1.0 mile upstream of Mann Road | +359
Pennypack Creek Branch | Approximately 400 feet downstream of Witmer Road | +298 | Township of Horsham.
| Approximately 0.7 mile upstream of Witmer Road | +362
Pennypack Creek Tributary No. 1 | At the Pennypack Creek confluence | +204 | Borough of Hatboro, Township of Horsham, Township of Upper Moreland.
| Approximately 0.7 mile upstream of Dresher Road | +341
Pine Run | At the upstream side of State Highway 309 | +176 | Township of Upper Dublin.
| Approximately 800 feet upstream of Dreshertown Road | +239
Rapp Run | At the Pine Run confluence | +183 | Township of Upper Dublin.
| Approximately 0.5 mile upstream of the most upstream Lexington Drive crossing | +355
Sandy Run | Approximately 300 feet downstream of Bethlehem Pike | +159 | Township of Abington, Township of Springfield, Township of Upper Dublin, Township of Whitemarsh.
| Approximately 1,400 feet upstream of Roberta Avenue | +339
Sandy Run Tributary No. 1 | Approximately 150 feet upstream of Johnston Avenue | +236 | Township of Abington.
| Approximately 2,000 feet upstream of Johnston Avenue | +258
Sandy Run Tributary No. 1a (downstream) | Approximately 250 feet upstream of Fernwood Avenue | +237 | Township of Abington.
| Approximately 1,100 feet upstream of Fernwood Avenue | +243
Southampton Creek | At the Pennypack Creek confluence | +177 | Borough of Bryn Athyn, Township of Lower Moreland, Township of Upper Moreland.
| At the downstream side of County Line Road | +187
Tributary No. 2 to Pine Run | At the Pine Run confluence | +202 | Township of Upper Dublin.
| Approximately 1.1 miles upstream of the Pine Run confluence | +232
War Memorial Creek | At the Pennypack Creek confluence | +190 | Township of Upper Moreland.
| Approximately 700 feet upstream of Mineral Avenue | +267
* National Geodetic Vertical Datum.
+ North American Vertical Datum.
# Depth in feet above ground.
‸ Mean Sea Level, rounded to the nearest 0.1 meter.
ADDRESSES
Borough of Bryn Athyn
Maps are available for inspection at the Borough Hall, 2835 Buck Road, Bryn Athyn, PA 19009.
Borough of Hatboro
Maps are available for inspection at the Borough Hall, 414 South York Road, Hatboro, PA 19040.
Township of Abington
Maps are available for inspection at the Township Building, Engineer's Office, 1176 Old York Road, Abington, PA 19001.
Township of Horsham
Maps are available for inspection at the Township Municipal Building, 1025 Horsham Road, Horsham, PA 19044.
Township of Lower Moreland
Maps are available for inspection at the Lower Moreland Municipal Building, 640 Red Lion Road, Huntingdon Valley, PA 19006.
Township of Springfield
Maps are available for inspection at the Springfield Township Municipal Building, 1510 Paper Mill Road, Wyndmoor, PA 19038.
Township of Upper Dublin
Maps are available for inspection at the Upper Dublin Municipal Hall, 801 Loch Alsh Avenue, Fort Washington, PA 19034.
Township of Upper Moreland
Maps are available for inspection at the Upper Moreland Township Building, 117 Park Avenue, Willow Grove, PA 19090.
Township of Whitemarsh
Maps are available for inspection at the Whitemarsh Township Administrative Building, 616 Germantown Pike, Lafayette Hill, PA 19444.

[FR Doc. 2015-31017 Filed 12-9-15; 8:45 am]

BILLING CODE 9110-12-P